DEPARTMENT OF DEFENSE

Department of the Army

Armed Forces Epidemiological Board; Meeting

AGENCY: Department of the Army, DoD.

ACTION: Notice of open meeting.

SUMMARY: In accordance with section 10(a)(2) of the Public Law 92-463, The Federal Advisory Committee Act, this announces the forthcoming working group meeting:

Name of Committee: Armed Forces Epidemiological Board (AFEB).

Dates of Meeting: June 18, 2002.

Time: 7:30 a.m.-4:30 p.m.

Proposed Agenda: The purpose of the meeting is to make recommendations on the health risk of low-level phased array radio frequency energy emissions, specifically risk associated with the PAVE PAWS radar site at the Massachusetts Military Reservation.

As part of the deliberations, the working group of the AFEB will travel to the Massachusetts Military Reservation. The meeting location will be at the Massachusetts Military Reservation, Building 1204, Camp Edwards, MA 02542.

FOR FURTHER INFORMATION CONTACT: Lt. Col. James R. Riddle, Executive Secretary, Armed Forces Epidemiological Board, Skyline Six, 5109 Leesburg Pike, Room 682, Falls Church, Virginia 22041-3258, (703) 681-8012/3.

SUPPLEMENTARY INFORMATION: Any interested person may file statements with the committee to be considered at the time and in the manner permitted by the committee.

Luz D. Ortiz,
Army Federal Register Liaison Officer.

[FR Doc. 02-13041 Filed 5-23-02; 8:45 am]

BILLING CODE 3710-08-M